DEPARTMENT OF COMMERCE

National Oceanic and Atmospheric Administration

RIN 0648-XA406

Caribbean Fishery Management Council; Public Meeting

AGENCY: National Marine Fisheries Service (NMFS), National Oceanic and Atmospheric Administration (NOAA), Commerce.

ACTION: Notice of a public meeting.

SUMMARY: The Caribbean Fishery Management Council's Scientific and Statistical Committee (SSC) will hold a meeting.

DATES: The SSC meeting will be held on May 24-25, 2011.

ADDRESSES: The meeting will be held at the Hampton Inn Hotel, 6530 Isla Verde Avenue, Carolina, Puerto Rico 00979.

FOR FURTHER INFORMATION CONTACT: Caribbean Fishery Management Council, 268 Muñoz Rivera Avenue, Suite 1108, San Juan, Puerto Rico 00918-1920, telephone: (787) 766-5926.

SUPPLEMENTARY INFORMATION: The SSC will meet to discuss the items contained in the following agenda:

1. Overview of SSC role, responsibilities and objectives of meetings.

a. Magnuson-Stevens Reauthorization Act (MSRA)/Annual Catch Limit (ACL) review of language—Overfishing Limit (OFL) vs. Acceptable Biological Catch (ABC) and legal implications of each.

b. Role of SSC and how decisions/motions get treated at Council level.

2. Review of decisions/logic behind 2010 amendment.

a. Brief Annual Catch Limit Plan Development Group (ACLG), SSC, Southeast Data, Assessment and Review (SEDAR) data evaluation meeting summaries.

b. 2010 decisions and summary of record.

c. Consistent rationale or need to develop record that explains why 2011 species should be treated differently than 2010 amendment.

3. Use of annual average catch for determining OFL.

4. Review of other methods for determining OFL and methods for determining ABC.

5. Recommendations to the Council for OFL for each species/species group and jurisdiction.

6. Recommendations to the Council for ABC for each species/species group and jurisdiction.

Other Business

Next Meeting

The SSC will convene on May 24 and 25, 2011, from 9:30 a.m. until 5 p.m. The meeting is open to the public, and will be conducted in English.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone: (787) 766-5926, at least 5 days prior to the meeting date.

Dated: April 27, 2011.
Tracey L. Thompson,
Acting Director, Office of Sustainable Fisheries, National Marine Fisheries Service.

[FR Doc. 2011-10542 Filed 4-29-11; 8:45 am]

BILLING CODE 3510-22-P